DEPARTMENT OF THE INTERIOR

Bureau of Land Management

[BLM_NV-FRN_MO4500173497]

Filing of Plats of Survey; Nevada

AGENCY: Bureau of Land Management, Interior.

ACTION: Notice.

SUMMARY: The purpose of this notice is to inform the public and interested State and local government officials of the filing of Plats of Survey in Nevada.

DATES: Filing is applicable at 10 a.m. on the dates indicated below.

FOR FURTHER INFORMATION CONTACT: Michael O. Harmening, Chief Cadastral Surveyor for Nevada, Bureau of Land Management, Nevada State Office, 1340 Financial Blvd., Reno, NV 89502-7147, phone: 775-861-6490. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION:

1. The Plat of Survey of the following described land was officially filed at the Bureau of Land Management (BLM) Nevada State Office, Reno, Nevada, on July 24, 2023.

The plat, in 10 sheets, representing the dependent resurvey of the Sixth Standard Parallel South, through a portion of Range 57 East, a portion of the west boundary, the north boundary, the subdivisional lines and portions of certain mineral surveys, Township 24 South, Range 57 East, Mount Diablo Meridian, Nevada, under Group No. 892, was accepted July 05, 2023. This survey was executed to meet certain administrative needs of the Bureau of Land Management.

2. The Plat of Survey of the following described lands was officially filed at the Bureau of Land Management (BLM) Nevada State Office, Reno, Nevada, on July 18, 2023.

The plat, in 1 sheet, representing the dependent resurvey of Mineral Survey No. 38, Township 28 North, Range 66 East, Mount Diablo Meridian, Nevada, under Group No. 998, was accepted July 18, 2023. This survey was executed to meet certain administrative needs of the Bureau of Land Management.

3. The Plat of Survey of the following described lands was officially filed at the Bureau of Land Management (BLM) Nevada State Office, Reno, Nevada, on July 05, 2023.

The plat, in 1 sheet, representing the dependent resurvey of a portion of the south boundary, Township 17 South, Range 49 East, and the dependent resurvey of a portion of the subdivisional lines, the subdivision of Section 1, and metes-and-bounds surveys in Section 1, Township 18 South, Range 49 East, Mount Diablo Meridian, Nevada, under Group No. 1000, was accepted June 29, 2023. This survey was executed to meet certain administrative needs of the Bureau of Land Management.

4. The Plat of Survey of the following described lands was officially filed at the Bureau of Land Management (BLM) Nevada State Office, Reno, Nevada, on May 17, 2023.

The plat, in 1 sheet, representing the dependent resurvey of a portion of the north boundary, portions of the subdivisional lines, and the subdivision of section 3, Township 20 South, Range 61 East, Mount Diablo Meridian, Nevada, under Group No. 997, was accepted May 10, 2023. This survey was executed to meet certain administrative needs of the Bureau of Land Management.

5. The Supplemental Plat of the following described lands was officially filed at the Bureau of Land Management (BLM) Nevada State Office, Reno, Nevada, on March 30, 2023.

The supplemental plat, in 1 sheet, showing the subdivision of lot 15 of Section 2, Township 21 South, Range 62 East, Mount Diablo Meridian, Nevada, under Group No. 1003, was accepted March 29, 2023. This supplemental plat was prepared to meet certain administrative needs of the Bureau of Land Management.

The surveys and supplemental plat, listed above, are now the basic record for describing the lands for all authorized purposes. These records have been placed in the open files in the BLM Nevada State Office and are available to the public as a matter of information.

Dated: August 18, 2023.
Michael O. Harmening,
Chief Cadastral Surveyor for Nevada.

[FR Doc. 2023-18227 Filed 8-23-23; 8:45 am]

BILLING CODE 4331-21-P